SECURITIES AND EXCHANGE COMMISSION

[Release No. 34-98410; File No. SR-MIAX-2023-22]

Self-Regulatory Organizations; Miami International Securities Exchange, LLC; Notice of Withdrawal of a Proposed Rule Change To Amend Exchange Rule 404, Series of Option Contracts Open for Trading, To Implement a Low Priced Stock Strike Price Interval Program

September 15, 2023.

On June 5, 2023, Miami International Securities Exchange, LLC (“MIAX” or “Exchange”) filed with the Securities and Exchange Commission (“Commission”), pursuant to section 19(b)(1) of the Securities Exchange Act of 1934 (“Act”) ¹ and Rule 19b-4 thereunder,² a proposed rule change to amend Exchange Rule 404, Series of Option Contracts Open for Trading. Specifically, the Exchange proposed to adopt Interpretations and Policies .12 to Rule 404 to implement a new strike interval program for stocks that are priced less than $2.50 and have open interest equal to or greater than 1,000 contracts. The proposed rule change was published for comment in the Federal Register on June 22, 2023.³ On August 4, 2023, pursuant to section 19(b)(2) of the Act,⁴ the Commission designated a longer period within which to approve the proposed rule change, disapprove the proposed rule change, or institute proceedings to determine whether to disapprove the proposed rule change.⁵ On September 14, 2023, the Exchange withdrew the proposed rule change (MIAX-2023-22).

¹ 15 U.S.C. 78s(b)(1).

² 17 CFR 240.19b-4.

³ See Securities Exchange Act Release No. 97733 (June 15, 2023), 88 FR 40887. Comments on the proposed rule change are available at: https://www.sec.gov/comments/sr-miax-2023-22/srmiax202322.htm.

⁴ 15 U.S.C. 78s(b)(2).

⁵ See Securities Exchange Act Release No. 98058, 88 FR 54361 (August 10, 2023). The Commission designated September 20, 2023 as the date by which the Commission shall approve or disapprove, or institute proceedings to determine whether to disapprove, the proposed rule change.

⁶ 17 CFR 200.30-3(a)(12).

For the Commission, by the Division of Trading and Markets, pursuant to delegated authority.⁶
J. Matthew DeLesDernier,
Deputy Secretary.

[FR Doc. 2023-20428 Filed 9-20-23; 8:45 am]

BILLING CODE 8011-01-P